DEPARTMENT OF HOMELAND SECURITY

Federal Emergency Management Agency

[Docket ID: FEMA-2018-0020; OMB No. 1660-0030]

Agency Information Collection Activities: Proposed Collection; Comment Request; Manufactured Housing Operations Forms

AGENCY: Federal Emergency Management Agency, DHS.

ACTION: Notice and request for comments.

SUMMARY: The Federal Emergency Management Agency, as part of its continuing effort to reduce paperwork and respondent burden, invites the general public to take this opportunity to comment on an extension, without change, of a currently approved information collection. In accordance with the Paperwork Reduction Act of 1995, this notice seeks comments concerning the collection of information related to FEMA's temporary housing assistance, which provides temporary housing to eligible survivors of federally declared disasters. This information is required to determine whether a potential site supports the installation of a temporary housing unit, to obtain permission to place the temporary housing unit on the property, to allow ingress and egress to the property where the temporary housing unit is placed, and to document the installation and maintenance of the unit.

DATES: Comments must be submitted on or before June 4, 2018.

ADDRESSES: To avoid duplicate submissions to the docket, please use only one of the following means to submit comments:

(1) Online. Submit comments at www.regulations.gov under Docket ID FEMA-2018-0020. Follow the instructions for submitting comments.

(2) Mail. Submit written comments to Docket Manager, Office of Chief Counsel, DHS/FEMA, 500 C Street SW, 8NE, Washington, DC 20472-3100.

All submissions received must include the agency name and Docket ID: FEMA-2018-0020. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Elizabeth McDowell, Supervisory Program Specialist, FEMA, Recovery Directorate, at (540) 686-3630. You may contact the Information Management Division for copies of the proposed collection of information at email address: FEMA-Information-Collections-Management@fema.dhs.gov.

SUPPLEMENTARY INFORMATION: The Robert T. Stafford Disaster Relief and Emergency Assistance Act (42 U.S.C. 5174) authorizes the President to provide temporary housing units to include mobile homes and other readily fabricated dwellings to eligible applicants who require temporary housing as a result of a major disaster. 44 CFR part 206 provides the requirements and procedures for delivering temporary housing assistance to eligible individuals and households with disaster-related housing needs. The information collected provides the facts necessary to determine the feasibility of a potential site for placement of a Temporary Housing Unit (THU), to ensure the landowner will allow for a Mobile Housing Unit (MHU) to be placed on the property, and to document the installation and maintenance of the unit. FEMA is requesting an extension, without change, of a currently approved information collection.

Collection of Information

Title: Manufactured Housing Operations Forms.

Type of Information Collection: Extension without change of a currently approved information collection.

OMB Number: 1660-0030.

FEMA Forms: FEMA Form 010-0-9, Request for the Site Inspection; FEMA Form 010-0-10, Landowner's Authorization Ingress-Egress Agreement; FEMA Form 009-0-130, Manufactured Housing Unit Maintenance Work Order; FEMA Form 009-0-136, Manufactured Housing Unit Installation Work Order; FEMA Form 009-0-138, Manufactured Housing Unit Inspection Report.

Abstract: The Robert T. Stafford Disaster Relief and Emergency Assistance Act authorizes the President to provide temporary housing units in the form of manufactured housing, recreational vehicles or other readily fabricated dwellings to eligible applicants who require direct temporary housing as a result of a major disaster. The information collected is necessary to determine the feasibility of the site for placement of temporary housing and to provide FEMA with access to place the temporary housing unit as well as retrieve it at the end of the use.

Affected Public: Individuals or households, Business or other for-profits.

Estimated Number of Respondents: 25,000.

Estimated Number of Responses: 25,000.

Estimated Total Annual Burden Hours: 4,167.50.

Estimated Total Annual Respondent Cost: $189,830.

Estimated Respondents' Operation and Maintenance Costs: 0.

Estimated Respondents' Capital and Start-Up Costs: 0.

Estimated Total Annual Cost to the Federal Government: $2,165,310.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 27, 2018.
Rachel Frier,
Records Management Branch Chief, Office of the Chief Administrative Officer, Mission Support, Federal Emergency Management Agency, Department of Homeland Security.

[FR Doc. 2018-06807 Filed 4-3-18; 8:45 am]

BILLING CODE 9111-23-P